DEPARTMENT OF STATE

[Public Notice 9264]

In the Matter of the Designation of Abu 'Ubaydah Yusuf al 'Anabi, aka Yusuf Abu-‘Ubaydah al-Anabi, aka Abou Obeida Youssef al-Annabi, aka Abu-Ubaydah Yusuf al-Inabi, aka Mebrak Yazid, aka Youcef Abu Obeida, aka Mibrak Yazid, aka Yousif Abu Obayda Yazid, aka Yazid Mebrak, aka Yazid Mabrak, aka Yusuf Abu Ubaydah, aka Abou Youcef, as a Specially Designated Global Terrorist Pursuant to Section 1(b) of Executive Order 13224, as Amended

Acting under the authority of and in accordance with section 1(b) of Executive Order 13224 of September 23, 2001, as amended by Executive Order 13268 of July 2, 2002, and Executive Order 13284 of January 23, 2003, I hereby determine that the individual known as Abu 'Ubaydah Yusuf al 'Anabi, also known as Yusuf Abu-`Ubaydah al-Anabi, also known as Abou Obeida Youssef al- Annabi, also known as Abu-Ubaydah Yusuf al-Inabi, also known as Mebrak Yazid, also known as Youcef Abu Obeida, also known as Mibrak Yazid, also known as Yousif Abu Obayda Yazid, also known as Yazid Mebrak, also known as Yazid Mabrak, also known as Yusuf Abu Ubaydah, also known as Abou Youcef, committed, or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: August 4, 2015.
John F. Kerry,
Secretary of State.

[FR Doc. 2015-22849 Filed 9-9-15; 8:45 am]

BILLING CODE 4710-AD-P